Title 3—

The President

Proclamation 8653 of April 11, 2011

National Equal Pay Day, 2011

By the President of the United States of America

A Proclamation

Generations of women have fought for the advancement of their sisters, daughters, and themselves in acts of great courage—reaching for and winning the right to vote, breaking barriers in America’s universities and boardrooms, and flooding the modern workforce with skilled talent. While our Nation has come far, obstacles continue to exist for working women, who still earn less on average than working men. Each year, National Equal Pay Day reflects how far into the current year women must work to match what men earned in the previous year. On National Equal Pay Day, we rededicate ourselves to carrying forward the fight for true economic equality for all, regardless of gender.

When the Equal Pay Act was signed into law in 1963, women earned 59 cents for every dollar earned by men. Though women today are more likely than men to attend and graduate from college, women still earn an average of only about 77 cents for every dollar a man earns. Even when accounting for factors such as experience, education, industry, and hours, this wage gap persists. Over the course of her lifetime, this gap will cost a woman and her family lost wages, reduced pensions, and diminished Social Security benefits. Though we have made great strides, wage discrimination is real and women are still more likely to live in poverty. These inequities remind us to work even harder to close the gaps that still exist.

At a time when families across this country are struggling to make ends meet, National Equal Pay Day reminds us that achieving equal pay for equal work is not just a women’s issue—it is a family issue. In today’s world, women represent both powerful consumers and vital wage earners. Women make up nearly half of the labor force and mothers are the primary or co-breadwinners in two-thirds of families. When women are not paid fairly, the families that depend on their earnings suffer.

That is why one of my first acts as President was to sign the Lilly Ledbetter Fair Pay Act, a law that empowers women who have been discriminated against in their salaries to have their day in court to make it right. I established the National Equal Pay Enforcement Task Force to identify persistent challenges to equal pay enforcement and ensure equal pay laws are vigorously enforced throughout our country. My Administration also published Women in America: Indicators of Social and Economic Well-Being, the first comprehensive Federal report on the status of American women in almost 50 years, which documents that although women have higher graduation rates than men at all academic levels, the wage gap still persists. We are pursuing these efforts because of the simple fact that when women are paid fairly, our whole Nation will benefit.

Achieving equal pay for women is vital to strengthening the future prosperity of our country. For the sake of our daughters and granddaughters, we must renew our commitment to eliminating the barriers women face in the workforce and give both women and men the opportunity to reach greater heights.

NOW, THEREFORE, I, BARACK OBAMA, President of the United States of America, by virtue of the authority vested in me by the Constitution and the laws of the United States, do hereby proclaim April 12, 2011, as National Equal Pay Day. I call upon all Americans to recognize the full value of women’s skills and their significant contributions to the labor force, acknowledge the injustice of wage discrimination, and join efforts to achieve equal pay.

IN WITNESS WHEREOF, I have hereunto set my hand this eleventh day of April, in the year of our Lord two thousand eleven, and of the Independence of the United States of America the two hundred and thirty-fifth.

[FR Doc. 2011-9349

Filed 4-14-11; 8:45 am]

Billing code 3195-W1-P